DEPARTMENT OF TRANSPORTATION

Research and Special Programs Administration

49 CFR Parts 172, 173, 177

[Docket No. RSPA-00-7755 (HM-189Q)]

RIN 2137-AD47

Hazardous Materials Regulations: Editorial Corrections and Clarifications; Corrections

AGENCY: Research and Special Programs Administration (RSPA), DOT.

ACTION: Final rule; corrections.

SUMMARY: This document contains corrections to a final rule (RSPA-00-7755 (HM-189Q)), which was published in the Federal Register on Friday, September 29, 2000. That final rule amended the Hazardous Materials Regulations (HMR) to correct editorial errors, make minor regulatory changes and, in response to requests for clarification, improve the clarity of certain provisions in the HMR.

EFFECTIVE DATE: October 1, 2000.

FOR FURTHER INFORMATION CONTACT: Charles E. Betts, Office of Hazardous Materials Standards, (202) 366-8553, Research and Special Programs Administration, U.S. Department of Transportation, 400 Seventh Street, SW., Washington, DC 20590-0001.

SUPPLEMENTARY INFORMATION:

Background

On September 29, 2000, RSPA published a final rule under Docket HM-189Q (65 FR 58614) to correct editorial errors, make minor regulatory changes and, in response to requests for clarification, improve the clarity of certain provisions in the HMR. This amendment makes minor changes to correct wording omissions and typographical errors to the September 29 final rule, which was effective October 1, 2000.

Because the amendments do not impose new requirements, notice and public comment are unnecessary.

Correction

In rule document 00-24633, beginning on page 58614, in the issue of Friday, September 29, 2000, make the following corrections:

PART 172—[CORRECTED]

§ 172.101 [Corrected]

1. On page 58620, in column 3, in § 172.101, in paragraph (g), in line two, correct the wording “§ 173.248” to read “§ 173.428”.

2. On page 58624, in § 172.101, in the table, for the entry “Organic peroxide type A, liquid or solid.” add the word “Forbidden” to column 3.

3. On the same page, in § 172.101, in the table, for the entry “Phenylenediamines (o-, m-, p-)” add a “+” in column 1.

§ 172.403 [Corrected]

4. On page 58626, in column 3, in § 172.403, in paragraph (a), in line 2, remove the two asterisks “**” immediately following the two section symbols.

5. On the same page, in column 3, in § 172.403, in paragraph (g)(2), in the last line, correct the wording “(uCi))” to read “(uCi)”.

PART 173—[CORRECTED]

§ 173.7 [Corrected]

6. On page 58628, in column 3, in § 173.7, in paragraph (e), in line 13, add the wording “packages of these” immediately before the wording “materials owned”.

§ 173.62 [Corrected]

7. On page 58629, in column 2, in amendatory instruction 41.b., in the fourth line, correct “§ 178.83(b)” to read “§ 176.83(b)”.

PART 177—[CORRECTED]

§ 177.835 [Corrected]

8. On page 58631, in column 1, in § 177.835, correct paragraph (g)(3) introductory text to read as follows:

§ 177.835 Class 1 (explosive) materials.

* * * * *

(g) * * *

(3) It is packed and loaded in accordance with a method approved by the Department. One method approved by the Department requires that—

* * * * *

Issued in Washington, DC, on October 4, 2000, under authority delegated in 49 CFR part 1.
John P. Murray,
Acting Deputy Administrator, Research and Special Programs Administration.

[FR Doc. 00-26000 Filed 10-10-00; 8:45 am]

BILLING CODE 4910-60-P